DEPARTMENT OF HEALTH AND HUMAN SERVICES

Office of Inspector General

42 CFR Part 1003

RIN 0991-AA45

Withdrawal of Proposed Rule “Health Care Programs: Fraud and Abuse; Civil Money Penalties for Hospital Physician Incentive Plans”

AGENCY: Office of Inspector General (OIG), Department of Health and Human Services (HHS).

ACTION: Withdrawal of Proposed Rule.

SUMMARY: This document informs the public that OIG has determined not to pursue a proposed rule published in the Federal Register and, as a result, is withdrawing it. OIG is taking this action to avoid any confusion that could be caused by having this proposal in the public domain.

DATES: The Proposed Rule listed under Supplementary Information is withdrawn as of August 1, 2019.

ADDRESSES: Office of Counsel to the Inspector General, Cohen Building, 330 Independence Ave. SW, Washington, DC 20201.

FOR FURTHER INFORMATION CONTACT: Aaron Zajic, Supervisory Project Manager, Office of Counsel to the Inspector General, Cohen Building, 330 Independence Ave. SW, Washington, DC 20201, 202-619-0335.

SUPPLEMENTARY INFORMATION:

I. Background

A. OIG's Review of Proposed Rules

Executive Order 13777, entitled “Enforcing the Regulatory Reform Agenda” (82 FR 12285), instructs agencies to review regulations which should be repealed, replaced, or modified. As a result of a review undertaken after the issuance of Executive Order 13777, OIG identified a Proposed Rule (described below), which we do not intend to finalize. Accordingly, OIG is withdrawing the proposed rule from the Federal Register.

B. OIG's Withdrawal of the Proposed Rule

The Proposed Rule that OIG is withdrawing was published in 1994. OIG neither applied nor enforced the positions stated therein, nor does it now intend to do so. If OIG were to finalize this proposal, we would require updated comments from the public, as reimbursement methods and other aspects of the healthcare industry have changed in the interim. As a result, OIG is withdrawing the following Proposed Rule to eliminate any confusion that could result from their presence in the public domain:

The Proposed Rule, Health Care Programs: Fraud and Abuse; Civil Money Penalties for Hospital Physician Incentive Plans (59 FR 61571, December 1, 1994), would have codified in regulations OIG's authority to levy CMPs when a hospital knowingly makes incentive payments to a physician as an inducement for reducing services to Medicare or Medicaid beneficiaries).

II. Regulatory Impact

We expect minimal regulatory impact and reaction because of the passage of time since the Proposed Rule was published and because, to our knowledge, the public is not currently relying on, and may be unaware of, it.

Joanne M. Chiedi,
Acting Inspector General.
Dated: July 25, 2019.
Alex M. Azar II,
Secretary.

[FR Doc. 2019-16343 Filed 8-1-19; 8:45 am]

BILLING CODE 4152-01-P